DEPARTMENT OF COMMERCE

National Oceanic and Atmospheric Administration

RIN 0648-XA37

Marine Mammals; File No. 978-1857

AGENCY: National Marine Fisheries Service (NMFS), National Oceanic and Atmospheric Administration (NOAA), Commerce.

ACTION: Notice; issuance of permit amendment.

SUMMARY: Notice is hereby given that Paul E. Nachtigall, Ph.D., Marine Mammal Research Program, Hawaii Institute of Marine Biology, P.O. Box 1106, Kailua, Hawaii 96734 has been issued a minor amendment to Scientific Research Permit No. 978-1857.

ADDRESSES: These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Room 1110, Honolulu, HI 96814-4700; phone (808) 944-2200; fax (808) 973-2941.

FOR FURTHER INFORMATION CONTACT: Jennifer Skidmore or Amy Sloan, (301) 427-8401.

SUPPLEMENTARY INFORMATION: The requested amendment has been granted under the authority of the Marine Mammal Protection Act of 1972, as amended (16 U.S.C. 1361 et seq.) and the regulations governing the taking and importing of marine mammals (50 CFR part 216).

The original permit, issued on May 17, 2007 (72 FR 29127) authorizes the permit holder to conduct acoustic studies on captive marine mammals at the Hawaii Institute of Marine Biology through May 31, 2012. The minor amendment (No. 978-1857-01) extends the duration of the permit through May 31, 2013, but does not: Change the manner in which animals may be taken, increase the number of animals authorized to be taken, or add new species or geographic locations.

Dated: April 23, 2012.
Tammy C. Adams,
Acting Chief, Permits and Conservation Division, Office of Protected Resources, National Marine Fisheries Service.

[FR Doc. 2012-10227 Filed 4-26-12; 8:45 am]

BILLING CODE 3510-22-P